DEPARTMENT OF THE INTERIOR

National Park Service

[NPS-WASO-NRNHL-13048; PPWOCRADI0, PCU00RP14.R50000]

National Register of Historic Places; Notification of Pending Nominations and Related Actions

Nominations for the following properties being considered for listing or related actions in the National Register were received by the National Park Service before May 4, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by June 14, 2013. Before including your address, phone number, email address, or other personal identifying information in your comment, you should be aware that your entire comment—including your personal identifying information—may be made publicly available at any time. While you can ask us in your comment to withhold your personal identifying information from public review, we cannot guarantee that we will be able to do so.

Dated: May 13, 2013.
J. Paul Loether,
Chief, National Register of Historic Places/National Historic Landmarks Program.

ALASKA

Lake and Peninsula Borough-Census Area LIBBY'S NO. 23 (bristol bay double ender), 1 Park Pl., Port Alsworth, 13000379

MINNESOTA

St. Louis County

Duluth and Iron Range Railroad Company Passenger Station, 404 Pine St., Tower, 13000380

MISSOURI

Jackson County

Pratt and Whitney Plant Complex, 1500 & 2000 E. Bannister Rd., Kansas City, 13000381

NEW HAMPSHIRE

Grafton County

Rockywold—Deephaven Camps (Squam MPS), Pinehurst Rd., Holderness, 13000382

Hillsborough County

Hillsborough Mills, 37 Wilton Rd., Milford, 13000383

Merrimack County

Bradford Center Meetinghouse, 18 Rowe Mountain Rd., Bradford, 13000384

NEW JERSEY

Cape May County

Ocean City, N.J. Life-Saving Station, 801 4th St., Ocean City, 13000385

Union County

Scotch Plains Baptist Church, Parsonage and Cemetery, 333-334 Park Ave., Scotch Plains, 13000386

OHIO

Cuyahoga County

Chagrin Falls East Side Historic District, E. Washington & Philomethian Sts., Chagrin Falls, 13000387

Fairview Community Park Historic District, 21077 N. Park Dr., Fairview Park, 13000388

Mayfield Theatre Building, The, 12300 Mayfield Rd., Cleveland, 13000389

Templin—Bradley Company, 5700 Detroit Ave., Cleveland, 13000390

OKLAHOMA

Canadian County

McGranahan Portion of the Chisholm Trail Roadbed, Address Restricted, Yukon, 13000391

Oklahoma County

Mager Mortgage Company Building, 231 NW. 10th St., Oklahoma City, 13000392

Pittsburg County

International Temple, Supreme Assembly, Order of the Rainbow for Girls, 315 E. Carl Albert Pkwy., McAlester, 13000393

Texas County

Danholt, 1208 N. May, Guymon, 13000394

Woods County

Hotel Bell, 505 Barnes, Alva, 13000395

OREGON

Marion County

Moser, Joseph Henry, Barn, 507 S. 3rd St., Silverton, 13000396

Soderberg, Peter and Bertha, House, (Silverton, Oregon, and Its Environs MPS), 1106 Pine St., Silverton, 13000397

SOUTH CAROLINA

Richland County

Owen Building, 1321 Lady St., Columbia, 13000398

TENNESSEE

Davidson County

American Baptist Theological Seminary Historic District, 1800 Baptist World Center Dr., Nashville, 13000399

Shelby County

Rosemark Historic District, 8501-8760 Kerrville-Rosemark Rd.; 8519-8727, 8736 Rosemark Rd., Rosemark, 13000400

Sumner County

Hawthorne Hill, 195 Old TN 25E., Castalian Springs, 13000401

VIRGINIA

Bath County

Garth Newel, 447 Garth Newel Ln., Hot Springs, 13000402

WISCONSIN

Jefferson County

Richards Hill Residential Historic District, Roughly bounded by Western, Richards, Thomas & Harvey Aves.; Livsey Pl. & Charles St., Watertown, 13000403

[FR Doc. 2013-12767 Filed 5-29-13; 8:45 am]

BILLING CODE 4312-51-P